FEDERAL COMMUNICATIONS COMMISSION

[Report No. 2554]

Petition for Reconsideration of Action in Rulemaking Proceeding

May 30, 2002.

Petition of Reconsideration has been filed in the Commission's rulemaking proceeding listed in this Public Notice and published pursuant to 47 CFR Section 1.429(e). The full text of this document is available for viewing and copying in Room CY-A257, 445 12th Street, SW, Washington, DC or may be purchased from the Commission's copy contractor, Qualex International (202) 863-2893. Oppositions to this petition must be filed by June 21, 2002. See Section 1.4(b)(1) of the Commission's rules (47 CFR 1.4(b)(1)). Replies to an opposition must be filed within 10 days after the time for filing oppositions has expired.

Subject: Amendment of Digital TV Table of Allotments (MM Docket No. 00-138).

Number of Petitions Filed: 1.

Marlene H. Dortch,
Secretary.

[FR Doc. 02-14103 Filed 6-5-02; 8:45 am]

BILLING CODE 6712-01-M